NUCLEAR REGULATORY COMMISSION

[NRC-2011-0006]

Sunshine Federal Register Notice

AGENCY HOLDING THE MEETINGS: Nuclear Regulatory Commission, [NRC-2011-0006].

DATE: Weeks of March 21, 28, April 4, 11, 18, 25, 2011.

PLACE: Commissioners' Conference Room, 11555 Rockville Pike, Rockville, Maryland.

STATUS: Public and closed.

Week of March 21, 2011

Thursday, March 24, 2011

9 a.m.

Briefing on the 50.46a Risk-Informed Emergency Core Cooling System (ECCS) Rule (Public Meeting) (Contact: Richard Dudley, 301-415-1116)

This meeting will be webcast live at the Web address— http://www.nrc.gov

Week of March 28, 2011—Tentative

Tuesday, March 29, 2011

9 a.m.

Briefing on Small Modular Reactors (Public Meeting) (Contact: Stephanie Coffin, 301-415-6877)

This meeting will be webcast live at the Web address— http://www.nrc.gov

Thursday, March 31, 2011

2:30 p.m.

Discussion of Management Issues (Closed-Ex. 2)

Week of April 4, 2011—Tentative

There are no meetings scheduled for the week of April 4, 2011.

Week of April 11, 2011—Tentative

There are no meetings scheduled for the week of April 11, 2011.

Week of April 18, 2011—Tentative

Tuesday, April 19, 2011

9 a.m.

Briefing on Source Security—Part 37 Rulemaking—Physical Protection of Byproduct Material (Public Meeting) (Contact: Merri Horn, 301-415-8126)

This meeting will be webcast live at the Web address— http://www.nrc.gov

Week of April 25, 2011—Tentative

Thursday, April 28, 2011

9 a.m.

Information Briefing on Inspections, Tests, Analyses, and Acceptance Criteria (ITAAC) (Public Meeting) (Contact: Aida Rivera-Varona, 301-415-4001)

This meeting will be webcast live at the Web address— http://www.nrc.gov

* * * * *

*The schedule for Commission meetings is subject to change on short notice. To verify the status of meetings, call (recording)—(301) 415-1292. Contact person for more information: Rochelle Bavol, (301) 415-1651.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Bill Dosch, Chief, Work Life and Benefits Branch, at 301-415-6200, TDD: 301-415-2100, or by e-mail at william.dosch@nrc.gov. Determinations on requests for reasonable accommodation will be made on a case-by-case basis.

* * * * *

This notice is distributed electronically to subscribers. If you no longer wish to receive it, or would like to be added to the distribution, please contact the Office of the Secretary, Washington, DC 20555 (301-415-1969), or send an e-mail to darlene.wright@nrc.gov.

Dated: March 17, 2011.
Rochelle C. Bavol,
Policy Coordinator, Office of the Secretary.

[FR Doc. 2011-6824 Filed 3-18-11; 4:15 pm]

BILLING CODE 7590-01-P